NATIONAL SCIENCE FOUNDATION

Committee on Equal Opportunities in Science and Engineering; Notice of Meeting

In accordance with the Federal Advisory Committee Act (Pub. L. 92-463, as amended), the National Science Foundation announces the following meeting.

Name: Committee on Equal Opportunities in Science and Engineering (CEOSE) Advisory Committee Meeting, #1173.

Dates/Time: June 19, 2013, 9:00 a.m.-5:30 p.m. June 20, 2013, 9:00 a.m.-1:00 p.m.

Place: National Science Foundation (NSF), 4201 Wilson Boulevard, Arlington, VA 22230.

To help facilitate your entry into the building, please contact Victoria Fung (vfung@nsf.gov) on or prior to June 17, 2013.

Type of Meeting: Open.

Contact Person: Dr. Bernice Anderson, Senior Advisor and CEOSE Executive Secretary, Office of International and Integrative Activities (IIA), National Science Foundation, 4201 Wilson Boulevard, Arlington, VA 22230.

Telephone Numbers: (703) 292-5151/703-292-8040 banderso@nsf.gov.

Minutes: Meeting minutes and other information may be obtained from the CEOSE Executive Secretary at the above address or the Web site at http://www.nsf.gov/od/iia/activities/ceose/index.jsp.

Purpose of Meeting: To study data, programs, policies, and other information pertinent to the National Science Foundation and to provide advice and recommendations concerning broadening participation in science and engineering.

Agenda:

Opening Statement by the CEOSE Chair

Discussions:

• Discussion of Key Points from the meetings with the National Science Foundation Acting Director and/or CEOSE officers

• NSF Strategic Plan

• Reports of CEOSE Liaisons to NSF Advisory Committees

• Evidence, Evaluation and Performance Measurement

• NSF Evaluation Capability

• Broader Impacts Infrastructure/Evaluating Broader Impacts

• NCSES Report, Women, Minorities and Persons with Disabilities in Science and Engineering: 2013

• The 2011-2012 Biennial CEOSE Report To Congress

• A Conversation with Dr. Cora B. Marrett, Acting Director of the National Science Foundation

• Discussion of CEOSE Unfinished Business and New Business

Dated: May 24, 2013.
Susanne Bolton,
Committee Management Officer.

[FR Doc. 2013-12801 Filed 5-29-13; 8:45 am]

BILLING CODE 7555-01-P